DEPARTMENT OF TRANSPORTATION

Federal Railroad Administration

[Docket No. FRA-2015-0007-N-1]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting the information collection requests (ICRs) below for clearance by the Office of Management and Budget (OMB), FRA is soliciting public comment on specific aspects of the activities identified below.

DATES: Comments must be received no later than April 10, 2015.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number ____ .” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Inspection and Maintenance of Steam Locomotives (Formerly Steam Locomotive Inspection).

OMB Control Number: 2130-0505.

Abstract: The Locomotive Boiler Inspection Act (LBIA) of 1911 required each railroad subject to the Act to file copies of its rules and instructions for the inspection of locomotives. The original LBIA was expanded to cover the entire steam locomotive and tender and all its parts and appurtenances. This Act then requires carriers to make inspections and to repair defects to ensure the safe operation of steam locomotives. The collection of information is used by tourist or historic railroads and by locomotive owners/operators to provide a record for each day a steam locomotive is placed in service, as well as a record that the required steam locomotive inspections are completed. The collection of information is also used by FRA Federal inspectors to verify that necessary safety inspections and tests have been completed and to ensure that steam locomotives are indeed “safe and suitable” for service and are properly operated and maintained.

Number(s): FRA-1, FRA-2, FRA-3, FRA-4, FRA-5, FRA-19.

Affected Public: Businesses.

Respondent Universe: 82 Steam Locomotive Owners/Operators.

Frequency of Submission: On occasion; annually.

Reporting Burden:

CFR section | Respondent universe | Total annual responses | Average time per response | Total annual burden hours
230.6—Waivers | 82 owners | 2 waiver letters | 1 hour | 2 hours.
230.12—Conditions for movement—Non-Complying Locomotives | 82 owners/operators | 10 tags | 6 minutes | 1 hour.
230.14—31 Service Day Inspection—Notifications | 82 owners/operators 82 owners/operators | 120 reports 120 notifications | 860 minutes 5 minutes | 1,720 hours 10 hours.
230.15—92 Service Day Inspection—Form 1 | 82 owners/operators | 120 reports | 980 minutes | 1,960 hours.
230.16—Annual Inspection—Form 3—Notifications | 82 owners/operators 82 owners/operators | 120 reports 120 notifications | 24.5 hours 5 minutes | 2,940 hours 10 hours.
230.17—1,472 Service Day Inspection—Form 4 | 82 owners/operators | 12 forms | 500.5 hours | 6,006 hours.
230.6—Waivers | 82 owners | 2 waiver letters | 1 hour | 2 hours.
230.12—Conditions for movement—Non-complying Locomotives | 82 owners/operators | 10 tags | 6 minutes | 1 hour.
230.20—Alteration Reports—Boilers—Form 19 | 82 owners/operators | 5 reports | 3 hours | 15 hours.
230.21—Steam Locomotive Number Change | 82 owners/operators | 1 document | 2 minutes | .033 hour.
230.33—Welded Repairs/Alterations—Written Request to FRA for Approval—Unstayed Surfaces | 82 owners/operators 82 owners/operators | 5 letters 3 letters | 2 hours 2 hours | 10 hours 6 hours.
230.34—Riveted Repairs/Alterations | 82 owners/operators | 2 requests | 2 hours | 4 hours.
230.49—Setting of Safety Relief Valves | 82 owners/operators | 10 tags | 60 minutes | 10 hours.
230.96—Main, Side, and Valve Motion Rods | 82 owners/operators | 1 letter | 8 hours | .8 hours.
RECORD KEEPING REQUIREMENTS
230.13—Daily Inspection Reports—Form 2 | 82 owners/operators | 3,650 reports | 60 minutes | 3,650 hours.
230.17—1,472 Service Day Inspection—Form 3 | 82 owners/operators | 12 reports | 15 minutes | 3 hours.
230.18—Service Day Report: Form 5 | 82 owners/operators | 150 reports | 15 minutes | 38 hours.
230.19—Posting of Copy—Form 1 & 3 | 82 owners/operators | 300 forms | 5 minutes | 25 hours.
230.41—Flexible Stay Bolts with Caps | 82 owners/operators | 20 entries | 120 hours | 2,400 hours.
230.46—Badge Plates | 82 owners/operators | 3 reports | 2 hours | 6 hours.
230.47—Boiler Number | 82 owners/operators | 1 stamping | 60 minutes | 1 hour.
230.75—Stenciling Dates of Tests and Cleaning | 82 owners/operators | 50 tests | 30 minutes | 25 hours.
230.98—Driving, Trailing, and Engine Truck Axles—Journal Diameter Stamped | 82 owners/operators | 1 stamp | 15 minutes | .25 hours.
230.116—Oil Tanks | 82 owners/operators | 30 stencils | 30 minutes | 15 hours.

Total Estimated Responses: 4,868.

Total Estimated Annual Burden: 18,866 hours.

Status: Extension of a Currently Approved Collection.

Title: Control of Alcohol and Drug Use in Railroad Operations.

OMB Control Number: 2130-0526.

Abstract: The information collection requirements contained in pre-employment and “for cause” testing regulations are intended to ensure a sense of fairness and accuracy for railroads and their employees. The principal information—evidence of unauthorized alcohol or drug use—is used to prevent accidents by screening personnel who perform safety-sensitive service. FRA uses the information to measure the level of compliance with regulations governing the use of alcohol or controlled substances. Elimination of this problem is necessary to prevent accidents, injuries, and fatalities of the nature already experienced and further reduce the risk of a truly catastrophic accident.

Form Number(s): FRA F 6180.73, 6180.74, 6180.94A, 61880.94B.

Affected Public: Businesses.

Respondent Universe: 4 Railroads.

Frequency of Submission: On occasion.

Reporting Burden:

CFR section | Respondent universe | Total annual responses | Average time per response | Total annual burden hours
219.7—Waivers | 100,000 workers | 2 letters | 2 hours | 4 hours
219.9(b)(2)—Responsibility for compliance | 450 railroads | 2 requests | 1 hour | 2 hours
219.9(c)—Responsibility for compliance | 450 railroads | 10 docs/contracts | 2 hours | 20 hours
219.11(d)—General conditions for chemical tests | 450 railroads | 30 forms | 2 minutes | 1 hour
219.11(g) Training—Alcohol and Drug—Programs: New Railroads—Training | 5 railroads 50 railroads | 5 programs 50 training classes | 3 hours 3 hours | 15 hours 150 hours
219.23(d)—Notice to Employee Organizations | 5 railroads | 5 notices | 1 hour | 5 hours
219.104/219.107—Removal from Covered Svc.—Hearing Procedures | 450 railroads 450 railroads | 500 form letters 50 requests | 2 minutes 2 minutes | 17 hours 2 hours
219.201(c) Good Faith Determination | 450 railroads | 2 reports | 30 minutes | 1 hour
219.203/207/209—Notifications by Phone to FRA | 450 railroads | 104 phone calls | 10 minutes | 17 hours
219.205—Sample Collection and Handling—Form covering accidents/incidents | 450 railroads 450 railroads | 400 forms 100 forms | 15 minutes 10 minutes | 100 hours 17 hours
219.209(a)—Reports of Tests and Refusals | 450 railroads | 80 phone reports | 2 minutes | 3 hours
219.209(c)—Records—Tests Not Promptly Conducted | 450 railroads | 40 records | 30 minutes | 20 hours
219.211(b) & (c)—Analysis and follow-up—MRO | 450 railroads | 8 reports | 15 minutes | 2 hours
219.401/403/405—Voluntary referral and Co-worker report policies | 5 railroads | 5 report policies | 20 hours | 100 hours
219.405(c)(1)—Report by Co-worker | 450 railroads | 450 reports | 5 minutes | 38 hours
219.403/405—SAP Counselor Evaluation | 450 railroads | 700 reports | 30 minutes | 350 hours
219.601(a)—RR Random Drug Testing Programs—Amendments/Revisions | 5 railroads 450 railroads | 5 programs 20 revision | 1 hour 1 hour | 5 hours 20 hours
219.601(b)(1)—Random Selection Procedures—Drug | 450 railroads | 5,400 documents | 4 hours | 21,600 hrs.
219.601(b)(4); 219.601(d)—Notices to Employees—New Railroads—Employee Notices—Tests | 5 railroads 5 railroads 450 railroads | 100 notices 5 notices 25,000 notices | 30 seconds 10 hours 1 minute | 1 hour 50 hours 417 hours
219.603(a)—Specimen Security—Notice By Employee Asking to be Excused from Urine Testing | 20,000 employees | 20 doc. excuses | 15 minutes | 5 hours
219.607(a)—RR Random Alcohol Testing Programs—Amendments to Approved Program | 5 new railroads 450 railroads | 5 programs 20 revision | 8 hours 1 hour | 40 hours 20 hours
219.901/903—Retention of Breath Alcohol Testing Records; Retention of Urine Drug Testing—Summary Report of Breath Alcohol/Drug Test | 450 railroads 450 railroads | 100,500 records 200 reports | 5 minutes 2 hours | 8,375 hours 400 hours

Total Responses: 133,818.

Total Estimated Total Annual Burden: 31,797 hours.

Status: Extension without Change of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on February 3, 2015.
Erin McCartney,
Budget Director.

[FR Doc. 2015-02528 Filed 2-6-15; 8:45 am]

BILLING CODE 4910-06-P